DEPARTMENT OF AGRICULTURE

Food Safety and Inspection Service

[Docket No. FSIS-2015-0040]

Codex Alimentarius Commission: Meeting of the Codex Committee on Food Import and Export Inspection and Certification Systems

AGENCY: Office of the Under Secretary for Food Safety, USDA.

ACTION: Notice of public meeting and request for comments.

SUMMARY: The Office of the Under Secretary for Food Safety, U.S. Department of Agriculture (USDA), Food Safety and Inspection Service (FSIS), is sponsoring a public meeting on January 14, 2016. The objective of the public meeting is to provide information and receive public comments on agenda items and draft United States (U.S.) positions to be discussed at the 22nd Session of the Codex Committee on Food Import and Export Inspection and Certification Systems (CCFICS) of the Codex Alimentarius Commission (Codex), taking place in Melbourne, Australia, February 6-12, 2016. The Under Secretary for Food Safety recognizes the importance of providing interested parties the opportunity to obtain background information on the 22nd Session of the CCFICS and to address items on the agenda.

DATES: The public meeting is scheduled for Thursday, January 14, 2016 from 2-4 p.m.

ADDRESSES: The public meeting will take place at the Jamie L. Whitten Building, United States Department of Agriculture (USDA), 1400 Independence Avenue SW., Room 107-A, Washington, DC 20250. Documents related to the 22nd Session of the CCFICS will be accessible via the Internet at the following address: http://www.codexalimentarius.org/meetings-reports/en.

Mary Stanley, U.S. Delegate to the 22nd Session of the CCFICS invites U.S. interested parties to submit their comments electronically to the following email address Mary.Stanley@fsis.usda.gov.

Call-In-Number:

If you wish to participate in the public meeting for the 22nd Session of the CCFICS by conference call, please use the call-in-number and participant code listed below.

Call-In-Number: 1-888-844-9904.

The participant code will be posted on the Web page below: http://www.fsis.usda.gov/wps/portal/fsis/topics/international-affairs/us-codex-alimentarius/public-meetings.

Registration:

Attendees may register to attend the public meeting by emailing Kenneth.Lowery@fsis.usda.gov by January 8, 2016. Early registration is encouraged because it will expedite entry into the building. The meeting will take place in a Federal building. Attendees should bring photo identification and plan for adequate time to pass through the security screening systems. Attendees who are not able to attend the meeting in person, but who wish to participate, may do so by phone.

FOR FURTHER INFORMATION CONTACT: For Further Information About the 22nd Session Of CCFICS Contact: Mary Stanley, Director, Office of International Coordination, Food Safety and Inspection Service, U.S. Department of Agriculture, Room 2925, South Agriculture Building, 1400 Independence Avenue SW., Washington, DC 20250

Phone: (202) 720-0287, Fax: (202) 720-4929, Email: Mary.Stanley@fsis.usda.gov.

For Further Information About the Public Meeting Contact: Kenneth Lowery, U.S. Codex Office, 1400 Independence Avenue SW., Room 4861, South Agriculture Building, Washington, DC 20250 Phone: (202) 690-4042, Fax: (202) 720-3157, Email: Kenneth.Lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFICS is responsible for:

(a) Developing principles and guidelines for food import and export inspection and certification systems with a view to harmonizing methods and procedures that protect the health of consumers, ensure fair trading practices, and facilitate international trade in foodstuffs;

(b) Developing principles and guidelines for the application of measures by the competent authorities of exporting and importing countries to provide assurance where necessary that foodstuffs comply with requirements, especially statutory health requirements;

(c) Developing guidelines for the utilization, as and when appropriate, of quality assurance systems to ensure that foodstuffs conform with requirements and to promote the recognition of these systems in facilitating trade in food products under bilateral/multilateral arrangements by countries;

(d) Developing guidelines and criteria with respect to format, declarations and language of such official certificates as countries may require with a view towards international harmonization;

(e) Making recommendations for information exchange in relation to food import/export control;

(f) Consulting as necessary with other international groups working on matters related to food inspection and certification systems; and

(g) Considering other matters assigned to it by the Commission in relation to food inspection and certification systems.

The Committee is hosted by Australia.

Issues To Be Discussed at the Public Meeting

The following items on the Agenda for the 22nd Session of CCFICS will be discussed during the public meeting:

• Activities of International Organizations relevant to the work of CCFICS

• Activities of FAO and WHO

• Activities of other International Organizations:

(a) World Organisation for Animal Health (OIE) contribution to the 22nd Session of CCFICS

(b) Contribution by the World Customs Organization to the 22nd Session of CCFICS

• Draft principles and guidelines for the exchange of information (including questionnaires) between countries to support food import and export

• Draft Guidance for monitoring the performance of national food control systems

• Revision of the Principles and Guidelines for the Exchange of Information in Food Safety Emergency Situations

• Revision of the Guidelines for the Exchange of Information between Countries on Rejections of Imported Food

• Discussion paper on system comparability or equivalence

• Discussion paper on the use of electronic certificates by competent authorities and migration to paperless certification

• Discussion paper on consideration of emerging issues and future directions for the work of the Codex Committee on Food Import and Export Inspection and Certification

• Discussion paper on system comparability or equivalence

• Other business and future work

Each issue listed will be fully described in documents distributed, or to be distributed, by the Secretariat prior to the Committee Meeting. Members of the public may access or request copies of these documents (see ADDRESSES).

Public Meeting

At the January 14, 2016 public meeting, draft U.S. positions on the agenda items will be described and discussed, and attendees will have the opportunity to pose questions and offer comments. Written comments may be offered at the meeting or sent to Mary Stanley, U.S. Delegate for the 22nd Session of the CCFICS (see ADDRESSES). Written comments should state that they relate to activities of the 22nd Session of CCFICS.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410, Fax: (202) 690-7442, Email: program.intake@usda.gov.

Persons with disabilities who require alternative means for communication (Braille, large print, audiotape, etc.), should contact USDA's TARGET Center at (202) 720-2600 (voice and TDD).

Done at Washington, DC on December 9, 2015.
Mary Frances Lowe,
U.S. Manager for Codex Alimentarius.

[FR Doc. 2015-31459 Filed 12-14-15; 8:45 am]

BILLING CODE 3410-DM-P